DEPARTMENT OF THE INTERIOR

National Park Service

[NPS-PWRO-PWR-1228-6476; 8145-8B90-SZM]

Draft Environmental Impact Statement for Extension of F-Line Historic Streetcar Service, Golden Gate National Recreation Area and San Francisco Maritime National Historical Park, County of San Francisco, CA

AGENCY: National Park Service.

ACTION: Notice of Availability for Draft Environmental Impact Statement for Extension of F-Line Historic Streetcar Service, Golden Gate National Recreation Area and San Francisco Maritime National Historical Park.

SUMMARY: In accordance with § 102(2)(C) of the National Environmental Policy Act of 1969, and pursuant to the Council on Environmental Quality's regulations (40 CFR parts 1500-08), the National Park Service has prepared a Draft Environmental Impact Statement (Draft EIS) for the proposed extension of the northern waterfront Municipal Railway Historic Streetcar Service. Beginning at Fisherman's Wharf, this proposed railway extension would serve visitors to two popular units of the National Park System—San Francisco Maritime National Historical Park and the Fort Mason area of Golden Gate National Recreation Area. This project is being developed in close coordination with San Francisco Municipal Railway (Muni) and other City and County of San Francisco planning and transportation agencies. The course of action proposed would lengthen the historic streetcar F-line approximately .85 mile from Fisherman's Wharf to the San Francisco Maritime National Historical Park and thence to the Golden Gate National Recreation Area. Currently, the F-line serves more than 20,000 passengers daily and is one of Muni's most popular lines, yet does not provide direct access to heavily visited Aquatic Park and Fort Mason Center areas. The intended effect of this proposal is to provide park visitors and transit-dependent city residents with high-quality rail transit that improves transportation access and mobility. In addition to the proposal, the Draft EIS evaluates a No-Action alternative, and documents early consideration of preliminary options not carried forward for analysis.

Background: A congressionally-mandated Travel Study completed in 1977 recommended restoring the historic rail link between the Hyde Street Pier and Fort Mason to improve access to various National Park Service (NPS) sites. The rail line was subsequently abandoned (1980), and the area between Hyde Street Pier and the Fort Mason tunnel entrance was designated a National Historic Landmark District in 1987 (which is now encompassed in the San Francisco Maritime National Historical Park created in 1988). Also, in the late 1980s federal highway funds originally intended for extending Interstate 280 were reallocated to a number of alternative transportation facilities along the Embarcadero including creation of an historic streetcar line along Market Street and the Embarcadero to Fisherman's Wharf. In 2000 this service was extended to Fisherman's Wharf. The popularity of the historic streetcars resulted in public and private interest in extending the service to the disjunct NPS areas.

The Municipal Railway currently operates historic streetcar service on Market Street and along the San Francisco waterfront (F-Line) to the line's existing terminus in the Fisherman's Wharf area. The proposed expansion would extend west to San Francisco Maritime National Historical Park (NHP) and on to Fort Mason. The NHP is visited by approximately 4 million people annually and is currently served by very popular cable cars (often crowded at peak tourist times) as well as streetcar and bus lines. Fort Mason, home to the Fort Mason Center, houses more than 40 non-profit organizations offering more than 15,000 events a year and attracting upwards of 1.6 million visitors. These areas are underserved by mass transit access, and as a result automobile-based visitation causes massive parking problems that affect surrounding neighborhoods. Furthermore, inadequate mass transit access makes it difficult for transit-dependent San Franciscans to enjoy the cultural and educational events offered at Fort Mason Center.

Development of Alternatives: The core team for development of the Draft EIS includes the NPS as the lead federal agency, and San Francisco Municipal Transportation Agency and Federal Transit Administration as cooperating agencies. A Technical Advisory Committee (TAC) was also convened to meet periodically to provide technical support during the various stages of the study and preparation of the EIS. In addition to the cooperators, members of the TAC include representatives from Fort Mason Center, Golden Gate National Parks Conservancy, Market Street Railway, San Francisco Department of Recreation and Parks, and San Francisco County Transportation Authority.

Public notification at the onset of the EIS process was made through direct mail to approximately 4,000 persons, organizations, and agencies. Media publicity included announcements in the San Francisco Examiner (May 3, 2006) and San Francisco Chronicle (May 6, 2006). The Notice of Intent formally initiating the conservation planning and environmental impact analysis process was published in the Federal Register on March 29, 2006. Public and agency scoping meetings were held at Fort Mason Officer's Club on May 9, 2006. During the 60-day public scoping period, the NPS received over 100 comments from individuals, organizations representing environmental and recreational interests, and governmental agencies. Based on information obtained during the scoping phase, analysis focused on land use, socioeconomics, transportation and circulation, air quality, noise and vibration, cultural resources, recreation and visitor use, visual and aesthetic resources, night sky visibility and light pollution, geological resources, biological resources, public health and safety, and public services and utilities. The public's primary concerns focused on changes in traffic and parking, impacts on parklands and recreational facilities, noise and vibration, visual impacts, and cultural resources. Information to inform preparation of the Draft EIS was also solicited from the TAC.

A total of six preliminary alignments and seven turnaround alternatives were developed as a result of the comments received. This included consideration of other transit modes such as diesel bus and trolley coach. Four additional turnaround alternatives were subsequently developed during the project's TAC meetings.

The Draft EIS identifies and analyzes potential consequences of implementing two alternatives. In addition, several preliminary alternatives were considered but dismissed from detailed analysis. Alternative 1, the No-Action “baseline alternative” would provide no changes from the existing historic streetcar line and would not provide transit connections to the Fort Mason Center.

Alternative 2 (agency-preferred) would extend the existing F-Line from Fisherman's Wharf to the Fort Mason Center. Included are new rail track and associated new platforms and designated stops; retrofitting of the historic State Belt Railroad tunnel; and a turnaround loop. The track extension would include a street-running segment along Beach Street, a transition zone between the street-running segment and the Fort Mason Tunnel segment. Two “turnaround segment” options for the terminus—North Loop (Fort Mason parking lot) and South Loop (Great Meadow)—were analyzed during a Value Analysis (VA) workshop held in August of 2010. The VA team focused on: (1) Identifying a “preferred” alternative for the streetcar extension turnaround; (2) identifying opportunities to improve value for the project; and (3) confirming sustainable project goals for the NPS. The VA team rated the North Loop turnaround option higher than three variations of the South Loop turnaround option. Other specific project elements include constructing streetcar track for approximately 0.85 miles, construction of 8-9-station platforms, upgrades to the existing Fort Mason Tunnel, and installation of signals, crossings, wires and poles.

Comments: This notice serves to formally open the public review and comment phase for the Draft EIS. The public and interested organizations are encouraged to provide written comments on issues and concerns, refinements in alternatives, potential environmental effects and appropriate mitigation measures that would reduce potential impacts. To afford an opportunity to obtain information, a public open house will be hosted on April 20, 2011 from 7-9 p.m. in the Golden Gate Room, Building A, Fort Mason (for directions or information about public transit, please consult the project Web site or contact the Muni Railway Extension Project Manager at (415) 561-2872). All written comments must be postmarked or transmitted not later than 60 days after publication of the EPA's notice of filing in the Federal Register—as soon as this ending date is confirmed it will be announced on the project Web site.

The project Web site http://parkplanning.nps.gov/StreetcarExtension provides the most up-to-date information regarding the project, including electronic version of the Draft EIS, planning process updates, meeting notices, reports and documents, and useful links associated with the project. Written comments on the Draft EIS should be mailed to the following address: Superintendent—GGNRA, Attn: Rick Foster, Muni Railway Extension Project Manager, Fort Mason, Bldg. 201, San Francisco, CA 94123. In addition to the project Web site, requests for printed copy of the Draft EIS or to be included on the project mailing list can be accommodated by contacting the Muni Railway Extension Project Manager at (415) 561-2872.

Before including your address, phone number, e-mail address, or other personal identifying information in your comment, you should be aware that your entire comment—including your personal identifying information—may be made publicly available at any time. While you can ask us in your comment to withhold your personal identifying information from public review, we cannot guarantee that we will be able to do so.

Decision Process: Availability of the Draft EIS for a 60-days public review will be formally announced through publication of this Notice of Availability, through local and regional news media, via the project Web site, and direct mailing to the project mailing list. Following due consideration of all public and agency comments, a Final EIS will be prepared. As a delegated EIS the official responsible for the final decision regarding the proposed extension is the Regional Director, Pacific West Region. Subsequently the officials responsible for implementation will be the Superintendents of Golden Gate National Recreation Area and San Francisco Maritime National Historical Park.

Dated: March 15, 2011.
Christine S. Lehnertz,
Regional Director, Pacific West Region.

[FR Doc. 2011-6704 Filed 3-21-11; 8:45 am]

BILLING CODE 4312-FN-P